DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama: Morgan (FEMA Docket No.: B-1279) | City of Decatur (12-04-5276P) | The Honorable Don Stanford, Mayor, City of Decatur, P.O. Box 488, Decatur, AL 35602 | City Hall, 402 Lee Street Northeast, Decatur, AL 35601 | January 7, 2013 | 010176
Arizona:
Maricopa (FEMA Docket No.: B-1280) | City of Goodyear (12-09-1661P). | The Honorable Georgia Lord, Mayor, City of Goodyear, 190 North Litchfield Road, Goodyear, AZ 85338 | City Hall, 190 North Litchfield Road, Goodyear, AZ 85338 | February 1, 2013 | 040046
Maricopa (FEMA Docket No.: B-1280) | Unincorporated areas of Maricopa County (12-09-1661P) | The Honorable Max W. Wilson, Chairman, Maricopa County Board of Supervisors, 301 West Jefferson Street, 10th Floor, Phoenix, AZ 85003 | Maricopa County Flood Control District, 2801 West Durango Street, Phoenix, AZ 85009 | February 1, 2013 | 040047
Pinal (FEMA Docket No.: B-1280) | City of Apache Junction (11-09-3907P) | The Honorable John S. Insalaco, Mayor, City of Apache Junction, 300 East Superstition Boulevard, Apache Junction, AZ 85119 | Public Works Department, 1001 North Idaho Road, Apache Junction, AZ 85219 | October 16, 2012 | 040120
California:
San Bernardino (FEMA Docket No.: B-1279) | City of Ontario (12-09-2406P) | The Honorable Paul S. Leon, Mayor, City of Ontario, 303 East B Street, Ontario, CA 91764 | City Hall, Engineering Department Public Counter, 303 East B Street, Ontario, CA 91764 | January 4, 2013 | 060278
San Diego (FEMA Docket No.: B-1279) | City of Coronado (12-09-2589P) | The Honorable Casey Tanaka, Mayor, City of Coronado, 1825 Strand Way, Coronado, CA 92118 | City Hall, 1825 Strand Way, Coronado, CA 92118 | January 17, 2013 | 060287
San Diego (FEMA Docket No.: B-1279) | City of San Marcos (12-09-1988P) | The Honorable Jim Desmond, Mayor, City of San Marcos, 1 Civic Center Drive, San Marcos, CA 92069 | City Hall, 1 Civic Center Drive, San Marcos, CA 92069 | January 25, 2013 | 060296
San Mateo (FEMA Docket No.: B-1280) | Town of Portola Valley (12-09-1477P) | The Honorable Maryann Moise Derwin, Mayor, Town of Portola Valley, 765 Portola Road, Portola Valley, CA 94028 | Town Hall, 765 Portola Road, Portola Valley, CA 94028 | January 10, 2013 | 065052
Solano (FEMA Docket No.: B-1280) | City of Vallejo (12-09-2640P) | The Honorable Osby Davis, Mayor, City of Vallejo, 555 Santa Clara Street, Vallejo, CA 94590 | Public Works Department, 555 Santa Clara Street, Vallejo, CA 94590 | February 1, 2013 | 060374
Solano (FEMA Docket No.: B-1279) | Unincorporated areas of Solano County (12-09-1553P) | The Honorable Linda J. Seifert, Chair, Solano County Board of Supervisors, 675 Texas Street, Suite 6500, Fairfield, CA 94533 | Solano County Public Works Department, 675 Texas Street, Suite 5500, Fairfield, CA 94533 | January 21, 2013 | 060631
Colorado:
Adams (FEMA Docket No.: B-1280) | City of Commerce City (12-08-0512P) | The Honorable Sean Ford, Sr., Mayor, City of Commerce City, 7887 East 60th Avenue, Commerce City, CO 80022 | City Hall, 7887 East 60th Avenue, Commerce City, CO 80022 | October 31, 2012 | 080006
Adams (FEMA Docket No.: B-1280) | Unincorporated areas of Adams County (12-08-0512P) | The Honorable W. R. “Skip” Fischer, Chairman, Adams County Board of Commissioners, 4430 South Adams County Parkway, Suite C5000A, Brighton, CO 80601 | Adams County Public Works Department, 4430 South Adams County Parkway, Suite W2123, Brighton, CO 80601 | October 31, 2012 | 080001
Arapahoe (FEMA Docket No.: B-1280) | Unincorporated areas of Arapahoe County (12-08-0619P) | The Honorable Nancy N. Sharpe, Chair, Arapahoe County Board of Commissioners, 5334 South Prince Street, Littleton, CO 80166 | Arapahoe County Public Works and Development Department, 6924 South Lima Street, Centennial, CO 80112 | December 17, 2012 | 080011
Arapahoe (FEMA Docket No.: B-1280) | Unincorporated areas of Arapahoe County (12-08-0806P) | The Honorable Nancy N. Sharpe, Chair, Arapahoe County Board of Commissioners, 5334 South Prince Street, Littleton, CO 80166 | Arapahoe County Public Works and Development Department, 6924 South Lima Street, Centennial, CO 80112 | February 1, 2013 | 080011
Douglas (FEMA Docket No.: B-1279) | Unincorporated areas of Douglas County (12-08-0727P) | The Honorable Jack Hilbert, Chairman, Douglas County Board of Commissioners, 100 3rd Street, Castle Rock, CO 80104 | Douglas County Department of Public Works, Engineering Division, 100 3rd Street, Castle Rock, CO 80104 | January 11, 2013 | 080049
Jefferson (FEMA Docket No.: B-1279) | City of Golden (12-08-0103P) | The Honorable Marjorie Sloan, Mayor, City of Golden, 911 10th Street, Golden, CO 80401 | Public Works and Planning Department, 1445 10th Street, Golden, CO 80401 | January 18, 2013 | 080090
Jefferson (FEMA Docket No.: B-1279) | Unincorporated areas of Jefferson County (12-08-0572P) | The Honorable Donald Rosier, Chairman, Jefferson County Board of Commissioners, 100 Jefferson County Parkway, Golden, CO 80419 | Jefferson County Department of Planning and Zoning, 100 Jefferson County Parkway, Suite 3, Golden, CO 80419 | January 18, 2013 | 080087
Florida:
Bay (FEMA Docket No.: B-1280) | City of Panama City (12-04-3225P) | The Honorable Greg Brudnicki, Mayor, City of Panama City, 9 Harrison Avenue, Panama City, FL 32401 | City Hall, Engineering Department, 9 Harrison Avenue, Panama City, FL 32402 | November 26, 2012 | 120012
Bay (FEMA Docket No.: B-1280) | Unincorporated areas of Bay County (12-04-3225P) | The Honorable George B. Gainer, Chairman, Bay County Board of Commissioners, 840 West 11th Street, Panama City, FL 32401 | Bay County Planning and Zoning Department, 707 Jenks Avenue, Suite B, Panama City, FL 32401 | November 26, 2012 | 120004
Hillsborough (FEMA Docket No.: B-1280) | City of Plant City (12-04-4888P) | The Honorable Michael S. Sparkman, Mayor, City of Plant City, P.O. Box C, Plant City, FL 33563 | Engineering Division, 302 West Reynolds Street, Plant City, FL 33607 | February 1, 2013 | 120113
Lee (FEMA Docket No.: B-1279) | City of Fort Myers (12-04-3735P) | The Honorable Randy Henderson, Jr., Mayor, City of Fort Myers, 2200 2nd Street, Fort Myers, FL 33901 | Community Development Department, 1825 Hendry Street, Fort Myers, FL 33901 | January 18, 2013 | 125106
Lee (FEMA Docket No.: B-1279) | Unincorporated areas of Lee County (12-04-3735P) | The Honorable John E. Manning, Chairman, Lee County Board of Commissioners, P.O. Box 398, Fort Myers, FL 33902 | Lee County Community Development Department, 1500 Monroe Street, 2nd Floor, Fort Myers, FL 33901 | January 18, 2013 | 125124
Orange (FEMA Docket No.: B-1279) | City of Orlando (12-04-6040P) | The Honorable Buddy Dyer, Mayor, City of Orlando, P.O. Box 4990, Orlando, FL 32808 | Permitting Services, 400 South Orange Avenue, Orlando, FL 32301 | January 25, 2013 | 120186
Orange (FEMA Docket No.: B-1279) | Unincorporated areas of Orange County (12-04-6040P) | The Honorable Teresa Jacobs, Mayor, Orange County, 201 South Rosalind Avenue, 5th Floor, Orlando, FL 32801 | Orange County Stormwater Management Department, 4200 South John Young Parkway, Orlando, FL 32839 | January 25, 2013 | 120179
Georgia: Columbia (FEMA Docket No.: B-1279) | Unincorporated areas of Columbia County (12-04-4789P) | The Honorable Ron C. Cross, Chairman, Columbia County Board of Commissioners, P.O. Box 498, Evans, GA 30809 | Columbia County Development Services Division, 630 Ronald Reagan Drive, Evans, GA 30809 | January 17, 2013 | 130059
Mississippi: Lamar (FEMA Docket No.: B-1280) | Unincorporated areas of Lamar County (12-04-2162P) | The Honorable Joe Bounds, Chairman, Lamar County Board of Supervisors, 403 Main Street, Purvis, MS 39475 | Lamar County Planning Department, Central Office Complex, 144 Shelby Speights Drive, Purvis, MS 39475 | February 1, 2013 | 280304
Nevada: Clark (FEMA Docket No.: B-1280) | Unincorporated areas of Clark County (12-09-1708P) | The Honorable Susan Brager, Chair, Clark County Board of Commissioners, 500 South Grand Central Parkway, Las Vegas, NV 89155 | Clark County Public Works Department, 500 South Grand Central Parkway, Las Vegas, NV 89155 | January 18, 2013 | 320003
North Carolina:
Rowan (FEMA Docket No.: B-1285) | Town of East Spencer (11-04-3050P) | The Honorable Barbara Mallett, Mayor, Town of East Spencer, 105 South Long Street, East Spencer, NC 28039 | Town Hall, 105 South Long Street, East Spencer, NC 28039 | January 2, 2013 | 370211
Rowan (FEMA Docket No.: B-1285) | Unincorporated areas of Rowan County (11-04-3050P) | The Honorable Gary L. Page, Rowan County Manager, 130 West Innes Street, Salisbury, NC 28144 | Rowan County Planning Department, 402 North Main Street, Salisbury, NC 28144 | January 2, 2013 | 370351
North Dakota: Stark (FEMA Docket No.: B-1279) | City of Dickinson (12-08-0288P) | The Honorable Dennis W. Johnson, Mayor, City of Dickinson, 99 2nd Street East, Dickinson, ND 58601 | Building Department, 99 2nd Street East, Dickinson, ND 58601 | January 7, 2013 | 380117
South Carolina: Richland (FEMA Docket No.: B-1279) | Unincorporated areas of Richland County (12-04-1256P) | The Honorable Kelvin Washington, Chairman, Richland County Council, 2020 Hampton Street, Columbia, SC 29204 | Richland County Administration Building, 2020 Hampton Street, 1st Floor, Columbia, SC 29204 | December 31, 2012 | 450170
South Dakota:
Meade (FEMA Docket No.: B-1280) | Town of Piedmont (12-08-0611P) | The Honorable Phil Anderson, Mayor, Town of Piedmont, 111 South 2nd Street, Piedmont, SD 57769 | Town of Piedmont, 1400 Main Street, Sturgis, SD 57785 | January 28, 2013 | 461198
Meade (FEMA Docket No.: B-1280) | Unincorporated areas of Meade County (12-08-0611P) | The Honorable Alan Aker, Chairman, Meade County Board of Commissioners, 14347 Mahaffey Drive, Piedmont, SD 57769 | Meade County Emergency Management Department, 1400 Main Street, Sturgis, SD 57785 | January 28, 2013 | 460054
Tennessee:
Hamilton (FEMA Docket No.: B-1279) | City of Collegedale (11-04-7989P) | The Honorable John Turner, Mayor, City of Collegedale, P.O. Box 1880, Collegedale, TN 37315 | City Hall, 4910 Swinyar Drive, Collegedale, TN 37315 | January 15, 2013 | 475422
Hamilton (FEMA Docket No.: B-1279) | Unincorporated areas of Hamilton County (11-04-7989P) | The Honorable Jim Coppinger, Mayor, Hamilton County, 625 Georgia Avenue, Chattanooga, TN 37402 | Hamilton County Regional Planning Department, 1250 Market Street, Chattanooga, TN 37402 | January 15, 2013 | 470071

(Catalog of Federal Domestic Assistance No. 97.022, “Flood Insurance.”)

Roy E. Wright,
Deputy Associate Administrator for Mitigation, Department of Homeland Security, Federal Emergency Management Agency.

[FR Doc. 2013-08201 Filed 4-8-13; 8:45 am]

BILLING CODE 9110-12-P